DEPARTMENT OF DEFENSE

Department of the Air Force

[Docket ID: USAF-2023-HQ-0013]

Proposed Collection; Comment Request

AGENCY: Department of the Air Force, Department of Defense (DoD).

ACTION: 60-Day information collection notice.

SUMMARY: In compliance with the Paperwork Reduction Act of 1995, the Department of the Air Force (DAF) Equal Opportunity (EO) Program, announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 27, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to AFPC/DP3DE at 550 C-Street, West Building 667, JBSA Randolph, TX 78150, ATTN: Mr. Jermey Lawley. Alternatively, you may call 210-565-2056 or email eo.workflow@us.af.mil.

SUPPLEMENTARY INFORMATION:

Title; Associated Form; and OMB Number: Air Force Equal Opportunity Data Collection Program; DAF Forms 1271, 1587, and 1587-1; OMB Control Number 0701-AABC.

Needs and Uses: The information collection requirement is necessary for the purpose of counseling, processing, investigating and adjudicating complaints of unlawful discrimination brought by DAF applicants, former DAF employees, contractors, retirees, and military family members. Particularly, the information is used to investigate and resolve complaints of unlawful discrimination and sexual harassment under the DAF EO Program; and to maintain records created because of the filing of allegations and appeals involving unlawful discrimination because of race, color, religion, sex, national origin, age, physical/mental disability, or genetic information.

Affected Public: Individuals or households.

Annual Burden Hours: 150 hours.

Number of Respondents: 75.

Responses per Respondent: 1.

Annual Responses: 75.

Average Burden per Response: 120 minutes.

Frequency: On occasion.

Dated: August 21, 2023.
Aaron T. Siegel,
Alternate OSD Federal Register Liaison Officer, Department of Defense.

[FR Doc. 2023-18419 Filed 8-25-23; 8:45 am]

BILLING CODE 5001-06-P